DEPARTMENT OF THE INTERIOR

Bureau of Land Management

[OR-020-1220-EA; G 01-0165]

Revocation of the Moratorium on the Number of Commercial Outfitting Permits and Designation of Special Areas for the Public Land Administered by the BLM, Burns District

AGENCY: Bureau of Land Management (BLM), Burns District, Interior.

ACTION: Revocation of the moratorium on the number of commercial outfitting permits and designation of special areas for the public land administered by the BLM, Burns District.

SUMMARY: The BLM, Burns District is revoking the existing moratorium on new commercial outfitting Special Recreation Permits (SRPs). New commercial outfitting SRP applications will be accepted for the entire BLM, Burns District which includes the Andrews and Three Rivers Resource Areas. All commercial, competitive, and organized group permit applications must be received at least 180 days before the intended use unless otherwise approved by the Authorized Officer.

The lifting of this moratorium does not guarantee specific SRP approval and issuance. BLM will consider evidence of user conflicts, resource impacts, and consistency with recreation management objectives, and other relevant information in determining whether or not to issue a specific SRP. Processing of an SRP application that is accepted will include appropriate environmental analysis and documentation.

The BLM, Burns District established a moratorium on all new commercial outfitting permits for public land on June 15, 1999 (Federal Register, Volume 64, No. 95, on Tuesday, May 18, 1999/Notices). The moratorium provided that BLM would hold commercial use at the 1999 levels while conducting an environmental review of commercial outfitting. Shortly after this time, Congress began consideration of special legislation to govern management of the Steens Mountain Area. On October 30, 2000, the Steens Mountain Cooperative Management and Protection Area (CMPA) and the Steens Mountain Wilderness Area were designated through the Steens Mountain Cooperative Management and Protection Act (Act) of 2000, Public Law 106-399. Section 111 of the Act provides a number of criteria for BLM management of the land, including managing the land in a manner that “recognizes and allows current and historic recreational use.” The legislation also obligates BLM to develop, within 4 years after the date of the enactment of the Act, a comprehensive plan for the long-range protection and management of the Federal land included in the CMPA, including the Wilderness Area.

BLM will meet this planning requirement through preparation of the Andrews Resource Area/Steens Mountain CMPA Resource Management Plan (RMP) and Environmental Impact Statement (EIS), which is scheduled to begin later this fiscal year and to be completed in 2004. The RMP currently in affect for the Three Rivers Resource Area is scheduled to be updated within the next 3 years. Long-term use levels for organized groups and commercial permittees will now be determined through the RMP process. SRPs are a means to manage commercial, competitive, and organized group recreational users of public land. They are issued as a means to control visitor use, protect recreational and natural resources, monitor impacts, and provide for the health and safety of visitors. Relevant regulations are found in 43 CFR 8372.

Given the current recreational interest in the Burns District, the BLM finds that it is preferable to lift the moratorium rather than delay issuance of SRPs until the planning efforts are completed. To delay SRP issuance until after the plans are completed would potentially deny compatible forms of recreational use in the interim without just consideration of the public's needs. Any applications received by BLM will also provide valuable data for preparation of the comprehensive plan, because BLM will be able to gauge current interest in commercial and organized group recreational use in the area. The environmental analysis and documentation to be done for each new permit will also be used in the development of the RMPs.

The BLM is also designating the CMPA and the Wilderness Study Areas within the Burns District as special areas as provided for in 43 CFR 8372.1-2. This special area designation will require organized groups to obtain a SRP or other proper authorization to conduct certain activities within these areas. The Authorized Officer determines when a permit is required based on resource concerns, user conflicts, and/or the need for monitoring.

FOR FURTHER INFORMATION CONTACT: Additional information may be obtained from Evelyn Treiman, Outdoor Recreation Planner, Burns District Office, HC 74-12533 Hwy 20 West, Hines, Oregon 97738, (541) 573-4442.

Dated: August 2, 2001.
Thomas H. Dyer,
District Manager.

[FR Doc. 01-20776 Filed 8-16-01; 8:45 am]

BILLING CODE 4310-33-P